DEPARTMENT OF TRANSPORTATION

Maritime Administration

[Docket No. 2010-0092]

Marine Transportation System National Advisory Council

AGENCY: Maritime Administration, DOT.

ACTION: Request for applications.

SUMMARY: The Maritime Administration seeks applications for membership on the Marine Transportation System National Advisory Council (MTSNAC). This Committee advises and makes recommendations on impediments that hinder the effective use and expansion of America's Marine Highways; waterways and ports, and their intermodal, road, rail, and marine high connections; and guidelines for the development of a national freight policy from a marine transportation perspective to the Secretary of Transportation via the Maritime Administrator.

DATES: Completed application forms should reach us on or before November 17, 2010.

ADDRESSES: Interested candidates may request an application form and submit a completed application by one of the following methods: E-mail: nac.marad@dot.gov, subject line: MTSNAC Application Fax: 202-366-6988, ATTN: MTSNAC DFO, please provide name, mailing address and telephone and fax numbers to send application forms to. Mail: MARAD-MTSNAC Designated Federal Officer, Room W21-310, U.S. Department of Transportation, 1200 New Jersey Ave., SE., Washington, DC 20590, please provide name, mailing address and telephone and fax numbers to send application forms to: Internet: To download a PDF or MS-Word application form, visit MTSNAC Web site at http://www.mtsnac.org.

FOR FURTHER INFORMATION CONTACT: Mr. Richard Lolich, MTSNAC Designated Federal Officer, Maritime Administration, 1200 New Jersey Ave., SE., Room W21-310, Washington, DC 20590, Richard.Lolich@dot.gov, Phone: 202-366-0704, Fax: 202-366-6988.

SUPPLEMENTARY INFORMATION: The MTSNAC is an advisory committee established in accordance with the provisions of the Federal Advisory Committee Act (FACA) 5 U.S.C. App. 1 (Pub. L. 92-463) and the Energy Independence and Security Act of 2007 (Pub. L. 110-140). The MTSNAC advises, consults with, reports to, and makes recommendations to the Secretary on matters relating to the Marine Transportation System. Such matters may include, but are not limited to:

Impediments that hinder the effective use and expansion of America's Marine Highways, and the expanded use of the marine transportation system for freight and passengers; Waterways and ports, and their intermodal road, rail, and marine highway connections and actions required to meet current and future national transportation system integration needs; Strategy, policy, and goals to ensure an environmentally responsible and safe system that improves the global competitiveness and national security of the U.S.;

Guidelines for the development of a national freight policy from a marine transportation Perspective, and; such other matters, related to those above, that the Secretary or sponsor may charge the Committee with addressing. The full Committee normally meets at least two to three times per fiscal year. Subcommittee meetings and teleconferences are held more frequently, as needed. It may also meet for extraordinary purposes.

Twenty-eight (28) positions will be filled. Organizations and companies with experience in one or more of the following sectors of the marine transportation industry are encouraged to apply: Ports and Terminal Operators, Shippers, Vessel Operators, Non-Marine Transportation Providers, Metropolitan Planning Organizations and State DOTs, Shipbuilders, Labor and Workforce Development, and Academia.

Registered lobbyists are not eligible to serve on Federal Advisory Committees. Registered lobbyists are lobbyists required to comply with provisions contained in the Lobbying Disclosure Act of 1995 (Pub. L. 110-81, as amended).

Each member serves for a term of two years. Members may serve consecutive terms. All members serve at their own expense and receive no salary. While attending meetings or when otherwise engaged in committee business, members will be reimbursed for travel and per diem expenses as permitted under applicable Federal travel regulations.

If you are interested in applying to become a member of the Committee, send a completed application to Mr. Richard Lolich, Designated Federal Officer (DFO) of the Marine Transportation System National Advisory Council. Send the application in time for it to be received by the DFO on or before November 17, 2010.

Dated: October 12, 2010.
By Order of the Maritime Administrator.
Christine Gurland,
Secretary, Maritime Administration.

[FR Doc. 2010-26092 Filed 10-15-10; 8:45 am]

BILLING CODE 4910-81-P